DEPARTMENT OF ENERGY

Federal Energy Regulatory Commission

[Docket No. EL00-71-000]

City of Detroit, Michigan v. The Detroit Edison Company; Notice of Complaint

May 4, 2000.

Take notice that on May 2, 2000, The City of Detroit, Michigan (Detroit) submitted a Complaint pursuant to Sections 206 and 306 of the Federal Power Act against the Detroit Edison Company (DECo). The Complaint alleges that DECo has improperly applied a penalty charge to certain power delivered by DECo to Detroit on July 27, 1999; that the parties' contract does not and should not provide for a penalty charge in the circumstances at issue.

Copies of the filing were served upon the Respondents and the Michigan Public Service Commission.

Any person desiring to be heard or to protest this filing should file a motion to intervene or protest with the Federal Energy Regulatory Commission, 888 First Street, N.E., Washington, D.C. 20426, in accordance with Rules 211 and 214 of the Commission's Rules and Practice and Procedure (18 CFR 385.211 and 385.214). All such motions or protests must be filed on or before May 22, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the compliant shall also be due on or before May 22, 2000.

David P. Boergers,
Secretary.

[FR Doc. 00-11634 Filed 5-9-00; 8:45 am]

BILLING CODE 6717-01-M